FEDERAL MARITIME COMMISSION

[Docket No. 25-24]

Southern International Co., Ltd., Complainant v. Daynamez Group of Companies LLC, Respondent; Notice of Filing of Complaint and Assignment

Notice is given that a complaint has been filed with the Federal Maritime Commission (the “Commission”) by Southern International Co., Ltd. (the “Complainant”) against Daynamez Group of Companies LLC (the “Respondent”). Complainant states that the Commission has subject-matter jurisdiction over the complaint pursuant to 46 U.S.C. 41301 and 46 CFR 502.61(c).

Complainant is a limited liability company and ocean transportation intermediary organized and operating under the laws of Vietnam with its principal place of business located in Ho Chi Minh City, Vietnam.

Complainant identifies Respondent as a limited liability company organized and operating under the laws of the state of Virginia with its principal place of business located in Fairfax, Virginia.

Complainant alleges that Respondent violated 46 U.S.C. 41102(c); 41104(a)(2) and (a)(3); and 41105(1). Complainant alleges these violations arose from Respondent's failure to remit payment to relevant carriers for the shipping of 558 containers contracted by Complainant, repeated misappropriation of funds, and other acts or omissions by Respondent.

An answer to the complaint must be filed with the Commission within 25 days after the date of service.

The full text of the complaint can be found in the Commission's electronic Reading Room at https://www2.fmc.gov/readingroom/proceeding/25-24/. This proceeding has been assigned to the Office of Administrative Law Judges. The initial decision of the presiding judge shall be issued by August 31, 2026, and the final decision of the Commission shall be issued by March 15, 2027.

(Authority: 46 U.S.C. 41301; 46 CFR 502.61(c))

Served: August 29, 2025.
David Eng,
Secretary.

[FR Doc. 2025-16862 Filed 9-2-25; 8:45 am]

BILLING CODE 6730-02-P